NATIONAL COUNCIL ON DISABILITY

Sunshine Act Meeting

Correction

Notice document 2013-25871, beginning on page 65006 in the issue of Wednesday, October 30, 2013, was inadvertently published. It should not have appeared in that issue.

[FR Doc. C1-2013-25871 Filed 10-31-13; 4:15 pm]

BILLING CODE 1505-01-D